ENVIRONMENTAL PROTECTION AGENCY

[FRL-6528-3]

Peele-Dixie Wellfield Site/Broward County, Florida; Notice of Proposed Settlement

AGENCY: Environmental Protection Agency.

ACTION: Notice of proposed settlement.

SUMMARY: Under sections 104, 106(a), 107 and 122 of the Comprehensive Environmental Response, Compensation, and Liability Act (CERCLA), the City of Ft. Lauderdale entered into an Administrative Order on Consent (AOC) with the Environmental Protection Agency (EPA), whereby the City of Ft. Lauderdale agreed perform response activities at the Peele-Dixie Wellfield Site (Site) located in Broward County, Florida. Section VIII of the AOC provides for the reimbursement of EPA's oversight costs by the City of Ft. Lauderdale. Under the terms of the AOC, section VIII is subject to section 122(i) of CERCLA, which requires EPA to publish notice of the proposed settlement in the Federal Register for a thirty (30) day public comment period. EPA will consider public comments on section VIII of the AOC for thirty days. EPA may withhold consent to all or part of section VIII of the AOC if comments received disclose facts or considerations which indicate that section VIII of the AOC is inappropriate, improper, or inadequate. Copies of the proposed settlement are available from: Ms. Paula V. Batchelor, U.S. Environmental Protection Agency, Region IV, CERCLA Program Services Branch, Waste Management Division, 61 Forsyth Street, SW., Atlanta, Georgia 30303, (404) 562-8887.

Written comment may be submitted to Mr. Greg Armstrong at the above address within 30 days of the date of publication.

Dated: December 30, 1999.
Anita Davis,
Acting Chief, CERCLA Program Services Branch, Waste Management Division.

[FR Doc. 00-1666 Filed 1-31-00; 8:45 am]

BILLING CODE 6560-50-P